FEDERAL COMMUNICATIONS COMMISSION

47 CFR Part 73

[DA 04-1201, MM Docket No. 01-43, RM-10041]

Digital Television Broadcast Service; Jackson, MS

AGENCY: Federal Communications Commission.

ACTION: Final rule.

SUMMARY: The Commission, at the request of CivCo, Inc., grants the petition for reconsideration of the Report and Order, which dismissed CivCo's request seeking the substitution of DTV channel 9 for station WLBT-TV's assigned DTV channel 51. See 68 FR 19240 (2003). The Commission grants CivCo's request to substitute DTV channel 9 for DTV channel 51 at Jackson. DTV channel 9 can be allotted to Jackson, Mississippi, in compliance with the principle community coverage requirements of Section 73.625(a) at reference coordinates 32-12-49 N. and 90-22-56 W. with a power of 3.2, HAAT of 610 meters and with a DTV service population of 639 thousand. With this action, this proceeding is terminated.

DATES: Effective July 26, 2004.

FOR FURTHER INFORMATION CONTACT: Pam Blumenthal, Media Bureau, (202) 418-1600.

SUPPLEMENTARY INFORMATION: This is a synopsis of the Commission's Report and Order, MM Docket No. 01-43, adopted April 29, 2004, and released May 7, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC 20554, telephone 202-863-2893, facsimile 202-863-2898, or via e-mail qualexint@aol.com. The Commission will send a copy of this Memorandum Opinion and Order to Congress and the General Accounting Office pursuant to the Congressional Review Act, see U.S.C.801(a)(1)(A).

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Mississippi, is amended by removing DTV channel 51 and adding DTV channel 9 at Jackson.

Federal Communications Commission.
Barbara A. Kreisman,
Chief, Video Division, Media Bureau.

[FR Doc. 04-15001 Filed 6-30-04; 8:45 am]

BILLING CODE 6712-01-P